DEPARTMENT OF HEALTH AND HUMAN SERVICES

National Institutes of Health

National Cancer Institute; Notice of Closed Meeting

Pursuant to section 10(d) of the Federal Advisory Committee Act, as amended (5 U.S.C. Appendix 2), notice is hereby given of the meeting of the President's Cancer Panel.

The meeting will be closed to the public in accordance with the provisions set forth in section 552b(c)(9)(B), Title 5 U.S.C., as amended because the premature disclosure of which would be likely to significantly frustrate implementation of proposed action the Panel may plan to take.

Name of Committee: President's Cancer Panel.

Date: February 14, 2000.

Time: 3:00 p.m. to 6:00 p.m.

Agenda: To review 1999 Annual Report and develop questions and agendas for future meetings in 2000.

Place: National Institutes of Health, 31 Center Drive, Building 31C, Room 4A48, Bethesda, MD 20892-2473 (Telephone Conference Call).

Contact Person: Maureen O. Wilson, Ph.D., Executive Secretary, National Cancer Institute, National Institutes of Health, 31 Center Drive, Building 31, Room 4A48, Bethesda, MD 20892, (301) 496-1148.

This notice is being published less than 15 days prior to the meeting due to the timing limitations imposed by the requirement to finalize the 1999 Annual Report and establish future meeting agendas.

(Catalogue of Federal Domestic Assistance Program Nos. 93.293, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: February 7, 2000.
LaVerne Stringfield,
Director, Office of Federal Advisory Committee Policy.

[FR Doc. 00-3250 Filed 2-10-00; 8:45 am]

BILLING CODE 4140-01-M